DEPARTMENT OF TRANSPORTATION

Federal Aviation Administration

Amended Notice of Public Comment Period for Draft Environmental Impact Statement (DEIS) for Proposed Relocation of the Panama City-Bay County International Airport to a New Site in Bay County, FL

AGENCY: Federal Aviation Administration (FAA), DOT. The U.S. Army Corps of Engineers (USACE) is a cooperating federal agency, having jurisdiction by law because of the proposed federal action has the potential for significant wetland impacts.

ACTION: Amended notice of public comment period.

SUMMARY: The Federal Aviation Administration (FAA) is issuing this amended notice to advise the public that the public comment period for the Draft Environmental Impact Statement (DEIS)—Proposed Relocation of the Panama City—Bay County International Airport, has been extended from January 21, 2005, to January 28, 2005, due to requests from the public. Original notices of availability of the DEIS was published in the Federal Register by USEPA on November 26, 2004 [68 FR 68899] and by FAA on December 3, 2004 [69 FR 70302]. Written requests for the DEIS and written comments on the DEIS can be submitted to the individual listed in the section For Further Information Contact.

FOR FURTHER INFORMATION CONTACT: Virginia Lane, Environmental Specialist, Federal Aviation Administration, Orlando Airports District Office, Suite 400, 5950 Hazeltine National Drive, Orlando, Florida 32822. Ms. Lane can be contacted at (407) 812-6331 (voice), (407) 812-6978 (facsimile).

Issued in Washington, DC on December 13, 2004.
Ralph Thompson,
Manager, Community and Environmental Needs Division, Office of Airport Planning and Programming.

[FR Doc. 04-27691 Filed 12-16-04; 8:45 am]

BILLING CODE 4910-13-M